DEPARTMENT OF COMMERCE

Foreign-Trade Zones Board

[Order No. 1742]

Reorganization and Expansion of Foreign-Trade Zone 144 Under Alternative Site Framework, Brunswick, GA

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Brunswick and Glynn County Development Authority, grantee of Foreign-Trade Zone 144, submitted an application to the Board (FTZ Docket 25-2010, filed 04/01/2010) for authority to reorganize and expand under the ASF with a service area of Appling, Atkinson, Brantley, Camden, Charlton, Coffee, Glynn, Jeff Davis, McIntosh, Ware and Wayne Counties, Georgia, within and adjacent to the Brunswick Customs and Border Protection port of entry, FTZ 144's existing Sites 1 and 2 would be categorized as magnet sites, and the grantee proposes one initial usage-driven site (Site 3);

Whereas, notice inviting public comment was given in the Federal Register (75 FR 17898-17899, 04/08/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand and reorganize FTZ 144 under the alternative site framework is approved, subject to the FTZ Act and the Board's regulations, including Section 400.28, to the Board's standard 2,000-acre activation limit for the overall general-purpose zone project, to a five-year ASF sunset provision for magnet sites that would terminate authority for Site 2 if not activated by February 29, 2016, and to a three-year ASF sunset provision for usage-driven sites that would terminate authority for Site 3 if no foreign-status merchandise is admitted for a bona fide customs purpose by February 28, 2014.

Signed at Washington, DC, this 4th day of February 2011.
Ronald K. Lorentzen,
Deputy Assistant Secretary for Import Administration, Alternate Chairman, Foreign-Trade Zones Board.

[FR Doc. 2011-4178 Filed 2-23-11; 8:45 am]

BILLING CODE P